DEPARTMENT OF TRANSPORTATION

Surface Transportation Board

Notice and Request for Comments

AGENCY: Surface Transportation Board, DOT.

ACTION: 30-day notice of request for approval: Extension of Generic Clearance for the Collection of Qualitative Feedback on Agency Service Delivery.

SUMMARY: As part of its continuing effort to streamline the process to seek feedback from the public on agency service delivery, and as required by the Paperwork Reduction Act of 1995, 44 U.S.C. 3501-3519 (PRA), the Surface Transportation Board (STB or Board) gives notice that it is requesting from the Office of Management and Budget (OMB) approval of generic clearance for the collection of qualitative feedback on agency service delivery.

The Board previously published a notice about this collection in the Federal Register on July 28, 2014, at 79 FR 43820. That notice allowed for a 60-day public review and comment period. No comments were received.

Comments may now be submitted to OMB concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be considered and also included in the Board's request for OMB approval.

Description of Collection

Title: Generic Clearance for the Collection of Qualitative Feedback on Agency Service Delivery.

OMB Control Number: 2140-0019.

STB Form Number: None.

Type of Review: Extension without change.

Affected Public: Individuals and Households, Businesses and Organizations, State, and Local or Tribal Government.

Average Expected Annual Number of Activities: 5.

Respondents: 15 (for one focus group), 150 (for each of two surveys), 200 (for each of two comments card requests).

Annual Responses: 15 (for focus groups), 300 (for surveys), and 400 (for comment cards).

Frequency of Response: Once per request.

Average Minutes per Response: 24 minutes (2 hours per focus group, 36 minutes per survey, 10 minutes per comment card).

Burden Hours: 277.

Total Burden Hours (annually including all respondents): We estimate a total of 277 hours for all respondents (24 minutes per response × 715 responses).

Total “Non-hour Burden” Cost: Because respondents email their response letters to the Board, there are no non-hour costs to respondents.

Needs and Uses: The information collection activity will garner qualitative customer and stakeholder feedback in an efficient, timely manner, in accordance with the Government-wide commitment to improving service delivery. By qualitative feedback we mean information that provides useful insights on perceptions and opinions, as opposed to statistical surveys that yield quantitative results that can be generalized to the population of study. This feedback will provide insights into customer or stakeholder perceptions, experiences and expectations; provide an early warning of issues about how the Board provides service to the public; or focus attention on areas where communication, training, or changes in operations might improve delivery of products or services. These collections will allow for ongoing, collaborative and actionable communications between the Board and its customers and stakeholders. It will also allow feedback to contribute directly to the improvement of the Board's program management.

Feedback collected under this generic clearance will provide useful information, but it will not yield data that can be generalized to the overall population. This type of generic clearance for qualitative information will not be used for quantitative information collections that are designed to yield reliably actionable results, such as monitoring trends over time or documenting program performance. Such data uses require more rigorous designs.

DATES: Comments on this information collection should be submitted by December 1, 2014.

ADDRESSES: Written comments should be identified as “Paperwork Reduction Act Comments, Surface Transportation Board, Generic Clearance for the Collection of Qualitative Feedback on Agency Service Delivery.” These comments should be directed to the Office of Management and Budget, Office of Information and Regulatory Affairs, Attention: Patrick Fuchs, Surface Transportation Board Desk Officer, by email at OIRA_SUBMISSION@OMB.EOP.GOV; by fax at (202) 395-6974; or by mail to Room 10235, 725 17th Street NW., Washington, DC 20503.

FOR FURTHER INFORMATION CONTACT: For further information regarding the “Generic Clearance for the Collection of Qualitative Feedback on Agency Service Delivery,” contact Chris Oehrle at (202) 245-0271 or oehrlec@stb.dot.gov. [Assistance for the hearing impaired is available through the Federal Information Relay Service (FIRS) at 1-800-877-8339.]

SUPPLEMENTARY INFORMATION: Under the PRA, a federal agency conducting or sponsoring a collection of information must display a currently valid OMB control number. A collection of information, which is defined in 44 U.S.C. 3502(3) and 5 CFR 1320.3(c), includes agency requirements or requests that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: October 24, 2014.
Brendetta S. Jones,
Clearance Clerk.

[FR Doc. 2014-25760 Filed 10-29-14; 8:45 am]

BILLING CODE 4915-01-P